ENVIRONMENTAL PROTECTION AGENCY

[ER-FRL-8596-8]

Environmental Impacts Statements; Notice of Availability

Responsible Agency: Office of Federal Activities, General Information (202) 564-1399 or http://www.epa.gov/compliance/nepa/.

Weekly receipt of Environmental Impact Statements filed 07/20/2009 through 07/24/2009 Pursuant to 40 CFR 1506.9.

EIS No. 20090250, Draft EIS, IBR, NV, Walker River Basin Acquisition Program, To Provide Water to Walker Lake an at Risk Natural Desert Terminal Lake, Funding, Walker River Basin, NV, Comment Period Ends: 09/14/2009, Contact: Caryn Huntt DeCarol, 775-884-8352.

EIS No. 20090251, Final EIS, NPS, NY, Fort Stanwix National Monument General Management Plan, Implementation, Funding, City of Rome, Oneida County, NY, Wait Period Ends: 08/31/2009, Contact: James O'Connell, 617-223-5222.

EIS No. 20090252, Draft EIS, NPS, DC, White-Tailed Deer Management Plan, To Develop a White-Tailed Deer Management that Supports Long-Term Protection, Preservation and Restoration of Native Vegetation and other Natural and Cultural Resource in Rock Creek Park, Washington, DC, Comment Period Ends: 09/14/2009, Contact: Ken Ferebee, 202-895-6221.

EIS No. 20090253, Draft EIS, AFS, OR, Deadlog Vegetation Management Project, To Implement Treatments that would Reduce the Risk of High Intensity, Stand Replacement Wildlife and the Risk of Heavy Tree Mortality from Insects and Disease, Deschutes National Forest Lands, Deschutes County, OR, Comment Period Ends: 09/14/2009, Contact: Terry Craigg, 541-548-7749.

EIS No. 20090254, Draft EIS, AFS, 00, Bridgeport Travel Management Project, To Provide the Primary Framework for Sustainable Management of Motor Vehicle Use on the Bridgeport Ranger District, Humboldt-Toiyabe National Forest, Mono County, CA and Lyon, Douglas, and Mineral Counties, NV, Comment Period Ends: 09/14/2009, Contact: Dave Lomis, 775-884-8132.

EIS No. 20090255, Final EIS, BLM, CO, Canyons of the Ancients National Monument Resource Management Plan, To Address Future Management Options for Approximately 165.00 Acres of Land, Dolores and Montezuma Counties, CO, Wait Period Ends: 08/31/2009, Contact: Heather Musclow, 970-882-5600.

EIS No. 20090256, Draft EIS, BLM, NV, Round Mountain Expansion Project, Proposed to Construct and Operate and Expand the Existing Open-Pit Gold Mining and Processing Operations, north of the town of Tonopah in Nye County, NV, Comment Period Ends: 09/14/2009, Contact: Thomas J. Seely, 775-482-7800.

EIS No. 20090257, Draft EIS, BLM, SD, Dewey Conveyor Project, To Transport Limestone from a Future Quarry Location to a Rail Load-Out Facility near Dewey, Application for Transportation and Utility Systems and Facilities on Federal Lands, Custer County, SD, Comment Period Ends: 09/14/2009, Contact: Marian Atkins, 605-892-7000.

EIS No. 20090258, Final EIS, FRC, 00, Catawba-Wateree Hydroelectric Project (FERC No. 2232), Application for Hydroelectric License, Catawba and Wateree Rivers in Burke, McDowell, Caldwell, Catawba, Alexander, Iredell, Mecklenburg, Lincoln and Gaston Counties, NC and York, Lancaster, Chester, Fairfield and Kershaw Counties, SC, Wait Period Ends: 08/31/2009, Contact: Julia Bovey, 1-866-208-3372.

EIS No. 20090259, Draft Supplement, AFS, PA, Allegheny National Forest, Updated Information for the 2007 Land and Resource Management Plan, Implementation, Elk, Forest, McKean and Warren Counties, PA, Comment Period Ends: 10/28/2009, Contact: Lois DeMarco, 814-728-6179.

EIS No. 20090260, Final EIS, COE, TX, Calhoun Port Authority's, Proposed Matagorda Ship Channel Improvement Project to Widen and Deepen Berthing Facilities, US Army COE Section 10 and 404 Permits, Calhoun and Matagorda Counties, TX, Wait Period Ends: 08/31/2009, Contact: Denise Sloan, 409-766-3962.

EIS No. 20090261, Final Supplement, GSA, MD, U.S. Food and Drug Administration (FDA) Headquarters Consolidation, Master Plan Update, Federal Research Center at White Oak, Silver Spring, Montgomery County, MD, Wait Period Ends: 08/31/2009, Contact: Suzanne Hill, 202-205-5821.

EIS No. 20090262, Draft EIS, EPA, GU, Apra Harbor, Guam, Proposed Site Designation of an Ocean Dredged Material Disposal Site Offshore of Guam, Comment Period Ends: 09/28/2009, Contact: Allan Ota, 415-972-3476.

EIS No. 20090263, Final EIS, NSF, HI, Advanced Technology Solar Telescope Project, Issuing Special Use Permit to Operate Commercial Vehicles on Haeakala National Park Road during the Construction of Site at the University of Hawai'i Institute for Astronomy, Haleakala High Altitude Observatory (HO) Site, Island of Maui, HI, Wait Period Ends: 08/31/2009, Contact: Craig Foltz, 703-292-4909.

EIS No. 20090264, Final EIS, FHW, OH, Cleveland Innerbelt Project, Proposing Major Rehabilitation and Reconstruction between I-71 and I-90, Cleveland Central Business District, Funding, City of Cleveland, Cuyahoga County, OH, Wait Period Ends: 08/31/2009, Contact: Herman Rodrigo, 614-280-6896.

Amended Notices

EIS No. 20090179, Draft EIS, AFS, CA, Klamath National Forest Motorized Route Designation, Motorized Travel Management, (Formerly Motorized Route Designation), Implementation, Siskiyou County, CA, Comment Period Ends: 08/04/2009, Contact: Jan Ford, 530-842-6131. Revision to FR Notice Published 06/05/2009: Extending Comment Period from 07/20/2009 to 08/04/2009.

EIS No. 20090198, Draft EIS, AFS, CA, Shasta-Trinity National Forest Motorized Travel Management Project, Proposal to Prohibit Cross-County Motor Vehicle Travel off Designated National Forest Transportation System (NFTS) Roads, Motorized Trails and Areas by the Public Except as Allowed by Permit or other Authorization (excluding snowmobile use), CA, Comment Period Ends: 08/25/2009, Contact: Robert Remillard, 530-226-2421. Revision to FR Notice Published 06/26/2009: Extending Comment Period from 08/10/2009 to 08/25/2009.

Dated: July 28, 2009.
Robert W. Hargrove,
Director, NEPA Compliance Division, Office of Federal Activities.

[FR Doc. E9-18350 Filed 7-30-09; 8:45 am]

BILLING CODE 6560-50-P